DEPARTMENT OF COMMERCE

National Oceanic and Atmospheric Administration

RIN 0648-XA712

Endangered Species; File No. 16306

AGENCY: National Marine Fisheries Service (NMFS), National Oceanic and Atmospheric Administration (NOAA), Commerce.

ACTION: Notice; receipt of application.

SUMMARY: Notice is hereby given that Gail Wippelhauser, Maine Department of Marine Resources, 21 State House Station, Augusta, ME 04333, has applied in due form for a permit to take shortnose sturgeon for purposes of scientific research.

DATES: Written, telefaxed, or e-mail comments must be received on or before October 21, 2011.

ADDRESSES: The application and related documents are available for review by selecting “Records Open for Public Comment” from the Features box on the Applications and Permits for Protected Species (APPS) home page, https://apps.nmfs.noaa.gov, and then selecting File No. 16306 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394.

Written comments on this application should be submitted to the Chief, Permits and Conservation Division

• By e-mail to NMFS.Pr1Comments@noaa.gov (include the File No. in the subject line of the e-mail),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Colette Cairns or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to collect information on shortnose sturgeon life history in the Gulf of Maine, including movement, natal river origin, and other vital population parameters. The proposed research would take place in the waters of the Gulf of Maine, the Penobscot, Kennebec, and Saco Rivers in Maine, the Merrimack River in Massachusetts, and other small coastal rivers of Maine and New Hampshire. Adult and juvenile shortnose sturgeon would be collected using gill nets, trammel nets, beach seines and trawls. Shortnose sturgeon eggs would be lethally collected using egg mats or D-frame nets. All adult and juvenile shortnose sturgeon would be measured, weighed, passive integrated transponder (PIT) tagged, Floy/T-bar tagged, tissue sampled, boroscoped, photographed, and released. Depending on the research objective to be met, several subsets of captured shortnose sturgeon would be assigned different take activities. One subset of the sturgeon from each river would additionally be fitted with either an internal or external satellite tag; another subset would have an apical spine or scute removed; a third subset would be blood sampled; a fourth subset would undergo gastric lavage; a fifth subset would have a fin ray section removed; and a final subset of ten adult/juvenile fish would be fitted with an internal/external acoustic tag with trailing antennae. As required for the specific procedure, fish would be anesthetized using tricaine methanesulfonate (MS-222) or electronarcosis. The proposed research would provide managers with a more comprehensive understanding of the population dynamics of shortnose sturgeon in the Gulf of Maine and aid in the management of this protected species. The permit would be valid for five years from the date of issuance.

Dated: September 15, 2011.
P. Michael Payne,
Chief, Permits, Conservation and Education Division, Office of Protected Resources, National Marine Fisheries Service.

[FR Doc. 2011-24245 Filed 9-20-11; 8:45 am]

BILLING CODE 3510-22-P